NATIONAL FOUNDATION ON THE ARTS AND THE HUMANITIES

Extension of a Currently Approved Collection; 60-Day Comment Request; Generic Clearance for the Collection of Qualitative Feedback on Agency Service Delivery

AGENCY: National Endowment for the Humanities.

ACTION: Notice; request for comments.

SUMMARY: In accordance with the Paperwork Reduction Act of 1995, the National Endowment for the Humanities (NEH) is seeking comment concerning the renewal of its generic clearance for the collection of qualitative feedback on agency service delivery. This generic clearance fast-tracks the process for NEH to seek feedback from the public, through surveys and similar feedback instruments, regarding NEH services and programs.

DATES: Please submit comments by August 29, 2022.

ADDRESSES: Submit comments to Elizabeth Voyatzis, Deputy General Counsel, Office of the General Counsel, National Endowment for the Humanities, 400 7th Street SW, Room 4060, Washington, DC 20506; (202) 606-8322; gencounsel@neh.gov.

FOR FURTHER INFORMATION CONTACT: Elizabeth Voyatzis, Deputy General Counsel, Office of the General Counsel, National Endowment for the Humanities, 400 7th Street SW, Room 4060, Washington, DC 20506; (202) 606-8322; gencounsel@neh.gov.

SUPPLEMENTARY INFORMATION:

Overview of This Information Collection

Type of Review: Extension of a currently approved collection.

Title: Generic Clearance for the Collection of Qualitative Feedback on Agency Service Delivery.

OMB Control Number: 3136-0140.

Abstract: NEH is seeking to renew its generic clearance for the collection of qualitative feedback on agency service delivery. This information collection enables NEH to obtain qualitative customer and stakeholder feedback in an efficient, timely manner, in accordance with the Administration's commitment to improving the Federal Government's customer experience and service delivery. Qualitative feedback includes information that provides useful insights on perceptions and opinions, as opposed to statistical surveys that yield quantitative results that can be generalized to the population of study.

There is no change in the method, substance, or estimated burden of the proposed collection of information.

Affected Public: Individuals and Households, Businesses and Organizations, State, Local or Tribal Governments.

Frequency of Collection: On occasion.

Estimated Annual Number of Respondents: 10,000.

Estimated Average Time per Response: 15 minutes.

Estimated Total Annual Burden Hours: 2,500 hours.

Request for Comments

NEH will make comments submitted in response to this notice, including names and addresses where provided, a matter of public record. NEH will summarize the comments and include them in the request to the Office of Management and Budget to renew its approval of the collection. We are requesting comments on all aspects of this generic clearance request, including: (a) whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on those who are to respond, including through the use of automated collection techniques or other forms of information technology.

Dated: June 27, 2022.
Samuel Roth,
Attorney-Advisor, National Endowment for the Humanities.

[FR Doc. 2022-13997 Filed 6-29-22; 8:45 am]

BILLING CODE 7536-01-P